DEPARTMENT OF ENERGY

Federal Energy Regulatory Commission

[Docket No. CP17-101-000]

Transcontinental Gas Pipe Line Company, LLC; Notice of Final General Conformity Determination for the Proposed Northeast Supply Enhancement Project

The staff of the Federal Energy Regulatory Commission (FERC or Commission) has prepared a final general conformity determination (GCD) for the Northeast Supply Enhancement Project (Project) proposed by Transcontinental Gas Pipe Line Company, LLC (Transco) in the above-referenced docket. The final GCD was prepared to satisfy the requirements of the Clean Air Act, and was included in the final Environmental Impact Statement (EIS) for the Project, which was issued on January 25, 2019. The final GCD and our responses to public comments on the draft GCD are included in appendices I and M of the final EIS, respectively. The final GCD assesses the potential air quality impacts associated with the construction and operation of the following relevant subset of Project facilities:

• 10.2 miles of 42-inch-diameter pipeline loop in Lancaster County, Pennsylvania (the Quarryville Loop);

• 3.4 miles of 26-inch-diameter pipeline loop in Middlesex County, New Jersey (the Madison Loop);

• 23.5 miles of 26-inch-diameter pipeline loop in Middlesex and Monmouth Counties, New Jersey, and Queens and Richmond Counties, New York (the Raritan Bay Loop, which consists of 0.2 mile of pipe in onshore Middlesex County, New Jersey; 6.0 miles of offshore pipe in New Jersey waters; and 17.3 miles of offshore pipe in New York waters);

• modification of existing Compressor Station 200 in Chester County, Pennsylvania;

• construction of new Compressor Station 206 in Somerset County, New Jersey; and

• ancillary facilities.

All of the emissions above the General Conformity applicability thresholds from construction of the Project are expected to occur in New York and New Jersey within the New Jersey-New York-Connecticut Interstate Air Quality Control Region. The FERC staff concludes that the Project would achieve conformity with the New York and New Jersey State Implementation Plans through direct mitigation and/or the purchase of Emission Reduction Credits and Creditable Emissions Reductions.

For additional information on the Project, the public can view the final GCD in the final EIS on our website at https://www.ferc.gov/industries/gas/enviro/eis/2019/01-25-19-FEIS.asp.

Dated: February 13, 2019.
Kimberly D. Bose,
Secretary.

[FR Doc. 2019-02830 Filed 2-19-19; 8:45 am]

BILLING CODE 6717-01-P